ENVIRONMENTAL PROTECTION AGENCY

[FRL-8038-7]

Meeting of the Local Government Advisory Committee

AGENCY: Environmental Protection Agency (EPA).

ACTION: Notice.

SUMMARY: The Local Government Advisory Committee and the Small Community Advisory Subcommittee (SCAS), Water and Indicators workgroups will meet on March 8-10, 2006, in Dallas, TX at the EPA's Region 6 office. The Committee will be discussing the 2008 Clean Water Needs Survey, National Urban Water Resources Survey Conducted by the U.S. Conference of Mayors Urban Water Council, Bartow County, Georgia, Environmental Management System and other region specific initiatives.

The SCAS, Water and Indicators Workgroups will meet in separate sessions on Wednesday, March 8. SCAS will meet at 10 a.m. on the 7th floor to discuss asset management, full-cost pricing and the Report on the Environment. Water and Indicators will meet after the special presentation which will be held in the Louisiana Room located on the 12th floor.

The Committee will hear comments from the public between 1 p.m.-1:15 p.m. on Thursday, March 9. Each individual or organization wishing to address the LGAC meeting will be allowed a maximum of five minutes to present their point of view. Please contact the Designated Federal Officer (DFO) at the number listed below to schedule agenda time. Time will be allotted on a first come, first serve basis, and the total period for comments may be extended, if the number of requests for appearances require it.

This is an open meeting and all interested persons are invited to attend. LGAC meeting minutes and Subcommittee summary notes will be available after the meeting and can be obtained by written request from the DFO. Members of the public are requested to call the DFO at the number listed below if planning to attend so that arrangements can be made to comfortably accommodate attendees as much as possible. Seating will be on a first come, first serve basis.

DATES: The Local Government Advisory Committee plenary session will begin at 8:30 a.m. Thursday, March 9 and conclude at 2 p.m. on Friday, March 10.

ADDRESSES: The LGAC meeting will be held at the U.S. EPA Region 6 Office, located at Fountain Place, 1445 Ross Avenue, Dallas, TX. Everyone must report to the 7th floor to sign in and to obtain a visitor's badge.

Additional information can be obtained by writing the DFO at 1200 Pennsylvania Avenue, NW. (1301A), Washington, DC 20460.

FOR FURTHER INFORMATION CONTACT: Contact Pamela Luttner, DFO for the Local Government Advisory Committee (LGAC) at (202) 564-3107.

SUPPLEMENTARY INFORMATION: Information on Services for the Disability: For information on access or services for individuals with disability, please contact Pamela Luttner at (202) 564-3107. To request accommodation of a disability, please contact Pamela Luttner, preferably at least 10 days prior to the meeting, to give EPA as much time as possible to process your request.

Dated: February 22, 2006.
Pamela A. Luttner,
Designated Federal Officer, Local Government Advisory Committee.

[FR Doc. E6-2902 Filed 2-28-06; 8:45 am]

BILLING CODE 6560-50-P